DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for domestic and foreign licensing by the Department of the Navy.

The following patents are available for licensing: Patent No. 7,603,251: MAGNETIC ANOMALY SENSING SYSTEM FOR DETECTION, LOCALIZATION AND CLASSIFICATION OF A MAGNETIC OBJECT IN A CLUTTERED FIELD OF MAGNETIC ANOMALIES//Patent No. 7,621,410: REMOVABLE EXTERNALLY MOUNTED BRIDGE CRANE FOR SHIPPING CONTAINERS//Patent No. 7,637,224: COMMAND INFLATABLE BOAT STOPPING BARRIER//Patent No. 7,654,262: SYSTEM FOR REDUCING HYDROSTATIC LOAD IMBALANCES IN A DRIVERS' OPEN-CIRCUIT BREATHING APPARATUS//Patent No. 7,688,072: PORTABLE MAGNETIC SENSING SYSTEM FOR REAL-TIME POINT-BY-POINT DETECTION, LOCALIZATION AND CLASSIFICATION OF MAGNETIC OBJECTS//Patent No. 7,712,727: AIR CUSHION VEHICLE BOW SKIRT RETRACTION SYSTEM//Patent No. 7,712,429: LAUNCH AND RECOVERY SYSTEM FOR UNMANNED UNDERSEA VEHICLES//Patent No. 7,721,666: HULL-MOUNTED LINE RETRIEVAL AND RELEASE SYSTEM//Patent No. 7,721,669: COMMON PAYLOAD RAIL FOR UNMANNED VEHICLES//Patent No. 7,726,497: REMOVABLE EXTERNALLY MOUNTED SLEWING CRANE FOR SHIPPING CONTAINERS//Patent No. 7,730,843: HULL-MOUNTED LINE RETRIEVAL AND RELEASE SYSTEM//Patent No. 7,735,781: METHOD AND SYSTEM FOR DEPLOYMENT OF ORDNANCE FROM AN AIRCRAFT IN MID-FLIGHT//Patent No. 7,753,319: ADJUSTABLE CABLE HANGER FOR SECURING CABLES EXTERNALLY//Patent No. 7,760,438: AIR-TO-WATER DE-ANAMORPHOSER AND METHOD OF AIR-TO-WATER DE-ANAMORPHOSIS.//

ADDRESSES: Requests for copies of the patents cited should be directed to Office of Counsel, Naval Surface Warfare Center Panama City Division, 110 Vernon Ave., Panama City, FL 32407-7001.

FOR FURTHER INFORMATION CONTACT: Mr. James Shepherd, Patent Counsel, Naval Surface Warfare Center Panama City Division, 110 Vernon Ave., Panama City, FL 32407-7001, telephone 850-234-4646.

Authority: 35 U.S.C. 207, 37 CFR Part 404.

Dated: September 28, 2012.
D.G. Zimmerman,
Lieutenant Commander, Judge Advocate General's Corps, U.S. Navy, Federal Register Liaison Officer.

[FR Doc. 2012-24769 Filed 10-5-12; 8:45 am]

BILLING CODE 3810-FF-P